DEPARTMENT OF JUSTICE

Notice of Lodging of Proposed Consent Decree Under the Clean Air Act

Notice is hereby given that, for a period of 30 days, the United States will receive public comments on a proposed Consent Decree in United States v. Delek Refining, Ltd. (Civil Action No. 6:14-cv-0783), which was lodged with the United States District Court for the Eastern District of Texas on September 29, 2014.

The Complaint in this Clean Air Act case was filed against Delek Refining, Ltd. (“Delek”) concurrently with the lodging of the proposed Consent Decree. This is a civil action brought pursuant to Section 113(b)(2) of the Clean Air Act (“CAA”), 42 U.S.C. 7413(b)(2), against Delek for alleged violations of Sections 112(r)(1) and 112(r)(7)(E) of the CAA, 42 U.S.C. 7412(r)(1) and 7412(r)(7)(E), and the Chemical Accident Prevention Provisions promulgated at 40 CFR Part 68 (the “Risk Management Program” regulations) at Delek's petroleum refinery located at 1702 East Commerce Street in Tyler, Texas (“Refinery”). Delek's alleged violations relate to acts and omissions leading up to and following a pipe rupture and fire that occurred at the Refinery on November 20, 2008. Pursuant to Section 113(b)(2) of the CAA, 42 U.S.C. 7413(b)(2), the United States seeks the assessment of civil penalties and injunctive relief based on Delek's violations of Section 112(r) of the Act and the Risk Management Program regulations. The Consent Decree proposes to resolve the civil action by requiring Delek to perform corrective measures and pay a penalty of $475,000.

The publication of this notice opens a period for public comment on the proposed Consent Decree. Comments should be addressed to the Assistant Attorney General, Environment and Natural Resources Division, and should refer to United States v. Delek Refining, Ltd., D.J. Ref. No. 90-5-2-1-08279/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $3.75 (25 cents per page reproduction cost) payable to the United States Treasury.

Maureen Katz,
Assistant Section Chief, Environmental Enforcement Section, Environment and Natural Resources Division.

[FR Doc. 2014-23749 Filed 10-3-14; 8:45 am]

BILLING CODE 4410-15-P